DEPARTMENT OF COMMERCE

International Trade Administration

[A-570-827]

Certain Cased Pencils From the People's Republic of China: Initiation of Antidumping New Shipper Review

AGENCY: Import Administration, International Trade Administration, Department of Commerce.

ACTION: Notice of Initiation of Antidumping New Shipper Review.

SUMMARY: The Department of Commerce (the Department) has received a request from Beijing Dixon Ticonderoga Stationery Company, Ltd. (Beijing Dixon) to conduct a new shipper review of the antidumping duty order on certain cased pencils from the People's Republic of China (PRC). In accordance with 19 CFR 351.214(d) of the Department's regulations, we are initiating this new shipper review.

EFFECTIVE DATE: February 4, 2003.

FOR FURTHER INFORMATION CONTACT: Crystal Scherr Crittenden or Howard Smith, AD/CVD Enforcement, Office 4, Group II, Import Administration, International Trade Administration, U.S. Department of Commerce, 14th Street and Constitution Avenue, N.W., Washington, DC 20230; telephone: (202) 482-0989 or (202) 482-5193 respectively.

SUPPLEMENTARY INFORMATION:

Background

On December 30, 2002 the Department received a request, in accordance with section 751(a)(2)(B) of the Tariff Act of 1930, as amended (the Act), and 19 CFR 351.214(c), for a new shipper review of the antidumping duty order on certain cased pencils (cased pencils) from the PRC.

Pursuant to 19 CFR 351.214(b)(2)(i) and 19 CFR 351.214(b)(2)(iii)(A), Beijing Dixon's December 30, 2002 request for review certified that it did not export the subject merchandise to the United States during the period of investigation (POI) and that, since the initiation of the cased pencils investigation, it has never been affiliated with any exporter or producer which did export subject merchandise to the United States during the POI. Pursuant to 19 CFR 351.214(b)(2)(iii)(B), Beijing Dixon's request certified that its export activities are not controlled by the central government of the PRC.

In addition, pursuant to 19 CFR 351.214(b)(2)(iv), Beijing Dixon's request contained documentation establishing : the date on which the subject merchandise first entered the United States; the volume of that and other shipments; and, the date of the first sale to an unaffiliated customer in the United States.

It is the Department's usual practice in cases involving non-market economies to require that a company seeking to establish eligibility for an antidumping duty rate separate from the country-wide rate provide de jure and de facto evidence of an absence of government control over the company's export activities. See Certain Preserved Mushrooms from the People's Republic of China: Initiation of New Shipper Antidumping Duty Review, 65 FR 17257 (March 31, 2000). Accordingly, we will issue a separate-rates questionnaire to the above-named respondent. If the respondent provides sufficient evidence that it is not subject to either de jure or de facto government control with respect to its exports of cased pencils, this review will proceed. If, on the other hand, Beijing Dixon does not demonstrate its eligibility for a separate rate, then Beijing Dixon will be deemed to be affiliated with other companies that exported cased pencils during the POI. This review will then be terminated due to failure of the exporter or producer to meet the requirements of section 751(a)(2)(B)(i)(II) of the Act and 19 CFR 351.214(b)(2)(iii)(B).

Initiation of Review

The antidumping duty order on cased pencils from the PRC has a December anniversary month. See Antidumping Duty Order: Certain Cased Pencils From the People's Republic of China, 59 FR 66909 (December 28, 1994). The Department received Beijing Dixon's request for review on December 30, 2002. The Department's regulations provide that it will initiate a new shipper review in the calendar month immediately following the anniversary month if the request for the review is made during the six-month period ending with the end of the anniversary month. See 19 CFR 351.214(d)(1).

In accordance with section 751(a)(2)(B) of the Act and 19 CFR 351.214(d), we are initiating a new shipper review of the antidumping duty order on cased pencils from the PRC. We intend to issue the preliminary results of this review not later than 180 days after the date on which the review is initiated.

Pursuant to 19 CFR 351.214(g)(1)(i)(A), the period of review (POR) for a new shipper review initiated in the month immediately following the anniversary month will be the twelve-month period immediately preceding the anniversary month. Therefore, the POR for this new shipper is:

Antidumping duty ­proceeding | Period to be reviewed
Certain Cased Pencils from the PRC, A-570-827:
Beijing Dixon Ticonderoga Stationery Company, Ltd. | 12/1/01-11/30/02

We will instruct the U.S. Customs Service to allow, at the option of the importer, the posting, until the completion of the review, of a bond or security in lieu of a cash deposit for each entry of the subject merchandise from Beijing Dixon in accordance with 19 CFR 351.214(e). Because Beijing Dixon certified that it both produces and exports the subject merchandise, the sale of which is the basis for this new shipper review request, we will apply the bonding privilege only to subject merchandise for which Beijing Dixon is both the producer and the exporter.

Interested parties must submit applications for disclosure under administrative protective order in accordance with 19 CFR 351.305 and 351.306.

This initiation and notice are in accordance with section 751(a) of the Act (19 U.S.C. 1675(a)) and 19 CFR 351.214.

Dated: January 28, 2003.
Holly A. Kuga,
Acting Deputy Assistant Secretary for Import Administration.

[FR Doc. 03-2595 Filed 2-3-03; 8:45 am]

BILLING CODE 3510-DS-S